DEPARTMENT OF STATE

[Public Notice 7404]

Shipping Coordinating Committee; Notice of Committee Meeting

The Shipping Coordinating Committee (SHC) will conduct four separate open meetings to prepare for upcoming events at the International Maritime Organization (IMO) in London, United Kingdom. The first of these open meetings will be held at 9:30 a.m. on Tuesday, June 14, 2011, in Room 1200 of the United States Coast Guard Headquarters Building, 2100 Second Street, SW., Washington, DC 20593-0001. The primary purpose of the meeting is to prepare for the sixty first Session of the IMO Technical Cooperation Committee (TC 61) to be held from June 21 to June 23, 2011.

The primary matters to be considered at TC 61 include:

—Adoption of the agenda.

—Work of other bodies and organizations.

—Integrated Technical Co-operation Programme.

—Financing the Integrated Technical Co-operation Programme.

—Linkage between the Integrated Technical Co-operation Programme and the Millennium Development Goals.

—Partnerships for progress.

—Voluntary IMO Member State Audit Scheme.

—Programme on the integration of women in the maritime sector.

—Global maritime training institutions.

—Report on the planned outputs of the Committee for 2010-2011.

—Impact Assessment Exercise 2008-2011.

—Revision of the Guidelines on Methods and Organization of Work of the Technical Co-operation Committee.

—Work Programme.

—Any other business.

—Election of the Chairman and Vice-Chairman for 2012.

—Consideration of the report of the Committee on its sixty-first session.

The second open meeting will be held at 9:30 a.m. on Tuesday, also on June 14, 2011, in Room 1202 of the United States Coast Guard Headquarters Building, 2100 Second Street, SW., Washington, DC 20593-7126. The primary purpose of this meeting is to prepare for the one hundred and sixth Session of the IMO Council (C 106) to be held from June 27 to July 1, 2011.

The primary matters to be considered at C 106 include:

—Adoption of the agenda.

—Report of the Secretary-General on credentials.

—Strategy and planning.

—Organizational reforms.

—Resource management.

—Technical Co-operation Fund—biennial allocation to support the ITCP Programme for 2012-2013.

—Results-based budget.

—Voluntary IMO Member State Audit Scheme.

—Consideration of the reports of the Maritime Safety Committee.

—Consideration of the reports of the Technical Co-operation Committee.

—Protection of vital shipping lanes.

—World Maritime University.

—IMO International Maritime Law Institute.

—Assembly Matters.

—External Relations.

—Report on the status of the Convention and membership of the Organization.

—Report on the status of conventions and other multilateral instruments in respect of which the Organization performs functions.

—Appointment of the Secretary-General.

—Appreciation of the services to the Organization of Mr. E.E. Mitropoulos.

—Place and date of the next session of the Council.

—Supplementary agenda items.

The third open meeting will be held at 9:30 a.m. on Wednesday July 6th, 2011, in Room 2501 of the United States Coast Guard Headquarters Building, 2100 Second Street, SW., Washington, DC 20593-0001. The primary purpose of this meeting is to prepare for the sixty-second Session of the IMO Maritime Environment Protection Committee (MEPC 62) to be held from July 11 to July 15, 2011.

The primary matters to be considered at MEPC 62 include:

—Adoption of the agenda.

—Harmful aquatic organisms in ballast water.

—Recycling of ships.

—Prevention of air pollution from ships.

—Reduction of GHG emissions from ships.

—Consideration and adoption of amendments to mandatory instruments.

—Interpretations of, and amendments to, MARPOL and related instruments.

—Implementation of the OPRC Convention and the OPRC-HNS Protocol and relevant Conference resolutions.

—Identification and protection of Special Areas and Particularly Sensitive Sea Areas.

—Inadequacy of reception facilities.

—Reports of sub-committees.

—Work of other bodies.

—Status of conventions.

—Harmful anti-fouling systems for ships.

—Promotion of implementation and enforcement of MARPOL and related instruments.

—Technical Co-operation Sub-programme for the Protection of the Marine Environment.

—Role of the human element.

—Formal safety assessment.

—Noise from commercial shipping and its adverse impacts on marine life.

—Work programme of the Committee and subsidiary bodies.

—Application of the Committees' Guidelines.

—Election of the Chairman and Vice Chairman for 2012.

—Any other business.

—Consideration of the report of the Committee.

The fourth open meeting will be held at 10 a.m. on Thursday July 7, 2011, at the offices of the Radio Technical Commission for Maritime Services (RTCM), 1800 N. Kent Street, Suite 1060, Arlington, Va. 22209. The primary purpose of this meeting is to prepare for the fifty-fifth Session of the International Maritime Organization's (IMO) Fire Protection Sub-Committee (FP 55) to be held from July 25 to July 29, 2011.

The primary matters to be considered at FP 55 include:

—Performance testing & approval standards for fire safety systems.

—Requirements for ships carrying hydrogen and compressed natural gas vehicles.

—Fire resistance of ventilation ducts.

—Measures to prevent explosions on oil and chemical tankers transporting low flash point cargoes.

—Recommendation on evacuation analysis for new and existing passenger ships.

—Consideration of IACS unified interpretations.

—Harmonization of the requirements for the location of entrances, air inlets and openings in the superstructure of tankers.

—Means of escape from machinery spaces.

—Review of fire protection requirements for on-deck cargoes.

—Analysis of fire casualty records.

—Revision of the Recommendations for entering enclosed spaces aboard ships.

—Guidelines for a visible element to general emergency alarm systems on passenger ships.

—Means for recharging air bottles for air breathing apparatuses.

—Safety provisions applicable to tenders operating from passenger ships.

—Development of unified interpretations for chapter 7 of the 2000 HSC Code.

—Development of amendments to the FSS Code for communication equipment for fire-fighting teams.

—Development of guidelines for use of fibre reinforced plastic within ships structures.

—Any other business.

Members of the public may attend the four meetings up to the seating capacity of the rooms. To facilitate the building security process, and to request reasonable accommodation, those who plan to attend one or all of the four meetings should contact the following coordinators at least 7 days prior to the meetings:

—For the TC 61 meeting on June 14, contact LCDR Jason Smith, by e-mail at jason.e.smith2@uscg.mil, by phone at (202) 372-1376, by fax at (202) 372-1925, or in writing at Commandant (CG-52), U.S. Coast Guard, 2100 2nd Street, SW., Stop 7126, Washington, DC 20593-7126 not later than June 7, 2011, 7 days prior to the meeting. Requests made after June 7, 2011 might not be able to be accommodated.

—For the C 106 meeting also on June 14, contact LTJG Kirsten Ambors, by e-mail at imo@uscg.mil, by phone at (202) 372-1417, by fax at (202) 372-1925, or in writing at Commandant (CG-52), U.S. Coast Guard, 2100 2nd Street, SW., Stop 7126, Washington, DC 20593-7126 not later than June 7, 2010, 7 days prior to the meeting. Requests made after June 7 might not be able to be accommodated.

—For the MEPC 62 meeting on July 6, contact Mr. John Meehan, by e-mail at John.A.Meehan@uscg.mil, by phone at (202) 372-1429, by fax at (202) 372-1925, or in writing at Commandant (CG-52), U.S. Coast Guard, 2100 2nd Street, SW., Stop 7126, Washington, DC 20593-7126 not later than June 28, 2011, 7 days prior to the meeting. Requests made after June 28, 2011 might not be able to be accommodated.

—For the FP 55 meeting on July 7, contact Mr. Randall Eberly, by e-mail at randall.eberly@uscg.mil, by phone at (202) 372-1393, by fax at (202) 372-1925, or in writing at Commandant (CG-5214), U.S. Coast Guard, 2100 2nd Street, SW., Stop 7126, Washington, DC 20593-7126 not later than June 30, 2011, 7 days prior to the meeting.

Please note that due to security considerations at Coast Guard Headquarters in Washington, DC, two valid, government issued photo identifications must be presented to gain entrance to the Headquarters building. The Headquarters building is accessible by taxi and privately owned conveyance (public transportation is not generally available). However, parking in the vicinity of the building is extremely limited.

RTCM Headquarters is adjacent to the Rosslyn Metro station. For further directions and lodging information, please see: http://www.rtcm.org/visit.php. Access to RTCM in Arlington, VA does not require the production of government issued photo identification.

Additional information regarding this and other IMO SHC public meetings may be found at: http://www.uscg.mil/imo.

Dated: May 18, 2011.
Jon Trent Warner,
Executive Secretary, Shipping Coordinating Committee, Department of State.

[FR Doc. 2011-12808 Filed 5-23-11; 8:45 am]

BILLING CODE 4710-09-P